DEPARTMENT OF HEALTH AND HUMAN SERVICES

Centers for Medicare & Medicaid Services

42 CFR Parts 416, 482, and 485

[CMS-3070-CN]

RIN 0938-AK95

Medicare and Medicaid Programs; Hospital Conditions of Participation: Anesthesia Services

AGENCY: Centers for Medicare & Medicaid Services (CMS), HHS.

ACTION: Correction notice.

SUMMARY: This document corrects a technical error that appeared in the proposed rule published in the Federal Register on July 5, 2001 entitled, “Medicare and Medicaid Programs; Hospital Conditions of Participation: Anesthesia Services.”

DATE: This correction is made on August 24, 2001.

FOR FURTHER INFORMATION CONTACT: Stephanie Dyson, RN (410) 786-9226; Jeannie Miller, RN (410) 786-3164.

SUPPLEMENTARY INFORMATION:

Background

In the July 5, 2001 proposed rule entitled, “Hospital Conditions of Participation: Anesthesia Services,” there was a technical error in the preamble.

In the first sentence of the ADDRESSES section, we listed an incorrect zip code for the mailing address for submission of written comments on the proposed regulation. We are correcting the zip code for the comments from 21207-8013 to 21244-8013. The complete address for written, mailed comments is: Health Care Financing Administration, Department of Health and Human Services, Attention: HCFA-3070-P, P.O. Box 8013, Baltimore, MD 21244-8013.

Correction of Errors

In FR Doc. 01-16964 of July 5, 2001 (66 FR 35395), we are making the following correction:

Corrections to Preamble

In the first sentence of the ADDRESSES section (page 35395), we are correcting the zip code for mailed comments from 21207-8013 to 21244-8013.

(Catalog of Federal Domestic Assistance Program No. 93.778, Medical Assistance Program)

(Catalog of Federal Domestic Assistance Program No. 93.733, Medicare—Hospital Insurance; and Program No. 93.744, Medicare—Supplementary Medical Insurance Program)

Dated: August 21, 2001.
Brian P. Burns,
Deputy Assistant Secretary of Information Resources Management.

[FR Doc. 01-21574 Filed 8-23-01; 8:45 am]

BILLING CODE 4120-01-P